DEPARTMENT OF AGRICULTURE

Forest Service

Establishment of Red Creek Purchase Unit, Stone County, MS

AGENCY: Forest Service, USDA.

ACTION: Notice.

SUMMARY: On March 20, 2006, the Under Secretary of Natural Resources and Environment created the Red Creek Purchase Unit. This purchase unit comprises 1,025 acres, more or less, within Stone County, Mississippi. A copy of the establishment document, which includes the legal description of the lands within the purchase unit, appears at the end of this notice.

DATES: Effective Date: Establishment of this purchase unit was effective March 20, 2006.

ADDRESSES: A copy of the map showing the purchase unit is on file and available for public inspection in the Office of the Director, Lands Staff, 4th Floor-South, Sidney R. Yates Federal Building, Forest Service, USDA, 201 14th Street, SW., Washington, DC 20250, between the hours of 8:30 a.m. and 4:30 p.m. on business days. Those wishing to inspect the map are encouraged to call ahead to (202) 205-1248 to facilitate entry into the building.

FOR FURTHER INFORMATION CONTACT: Gregory C. Smith, Director, Lands Staff, Forest Service, USDA, 1400 Independence Ave., SW., Mailstop 1124, Washington, DC 20250-0003, telephone: (202) 205-1248.

Dated: April 3, 2006.
Gloria Manning,
Associate Deputy Chief, National Forest System.

Red Creek Purchase Unit

Stone County, Mississippi

The following described lands lying adjacent or proximate to the De Soto National Forest are determined to be suitable for the protection of the watersheds of navigable streams and for other purposes in accordance with section 6 of the Weeks Act of 1911 (16 U.S.C. 515). Therefore, in furtherance of the authority of the Secretary of Agriculture pursuant to the Weeks Act of 1911, as amended, including section 17 of the National Forest Management Act of 1976 (Pub. L. 94-588; 90 Stat. 2961), these lands are hereby designated and established as the Red Creek Purchase Unit.

Lands lying in Township 3 South, Range 10 West, Stone County, St. Stephens Principal Meridian, Mississippi, and more particularly described as:

Section 27: All that part of the W¾ and the NE¼ of NE¼, both lying South of Red Creek; SE¼ of NE¼; NE¼ of SE¼.

Section 28: All that part of the S½ lying South of Red Creek.

Section 29: All that part of the SE¼ lying South and East of Red Creek; S½ of SW¼.

Section 30: S½ of SE¼.

Containing 1,025 acres, more or less.

Executed in Washington, DC, this 20th day of March, 2006.

David P. Tenny,

Acting, Under Secretary, Natural Resources and Environment.

[FR Doc. 06-3429 Filed 4-7-06; 8:45 am]

BILLING CODE 3410-11-P